DEPARTMENT OF THE TREASURY

Office of Foreign Assets Control

Unblocking of Specially Designated Nationals and Blocked Persons Pursuant to the Foreign Narcotics Kingpin Designation Act

AGENCY: Office of Foreign Assets Control, Treasury.

ACTION: Notice.

SUMMARY: The Department of the Treasury's Office of Foreign Assets Control (“OFAC”) is publishing the names of five individuals and seven entities whose property and interests in property have been unblocked pursuant to the Foreign Narcotics Kingpin Designation Act (“Kingpin Act”) (21 U.S.C. 1901-1908, 8 U.S.C. 1182). In addition, OFAC is publishing an amendment to the identifying information of one individual and ten entities previously designated, or identified as blocked property, pursuant to the Kingpin Act.

DATES: The unblocking and removal from the list of Specially Designated Nationals and Blocked Persons (“SDN List”) of the five individuals and seven entities identified in this notice whose property and interests in property were blocked pursuant to the Kingpin Act, is effective on July 30, 2013.

FOR FURTHER INFORMATION CONTACT: Assistant Director, Sanctions Compliance & Evaluation, Department of the Treasury, Office of Foreign Assets Control, Washington, DC 20220, Tel: (202) 622-2420.

SUPPLEMENTARY INFORMATION:

Electronic and Facsimile Availability

This document and additional information concerning OFAC are available from OFAC's Web site at www.treasury.gov/ofac or via facsimile through a 24-hour fax-on demand service at (202) 622-0077.

Background

On December 3, 1999, the Kingpin Act was signed into law by the President of the United States. The Kingpin Act provides a statutory framework for the President to impose sanctions against significant foreign narcotics traffickers and their organizations on a worldwide basis, with the objective of denying their businesses and agents access to the U.S. financial system and to the benefits of trade and transactions involving U.S. persons and entities.

The Kingpin Act blocks all property and interests in property, subject to U.S. jurisdiction, owned or controlled by significant foreign narcotics traffickers as identified by the President. In addition, the Secretary of the Treasury consults with the Attorney General, the Director of the Central Intelligence Agency, the Director of the Federal Bureau of Investigation, the Administrator of the Drug Enforcement Administration, the Secretary of Defense, the Secretary of State, and the Secretary of Homeland Security when designating and blocking the property or interests in property, subject to U.S. jurisdiction, of persons or entities found to be: (1) Materially assisting in, or providing financial or technological support for or to, or providing goods or services in support of, the international narcotics trafficking activities of a person designated pursuant to the Kingpin Act; (2) owned, controlled, or directed by, or acting for or on behalf of, a person designated pursuant to the Kingpin Act; and/or (3) playing a significant role in international narcotics trafficking.

On July 30, 2013, the Director of OFAC removed from the SDN List the five individuals and seven entities listed below, whose property and interests in property were blocked pursuant to the Kingpin Act:

Individuals

1. ARANIBAR CASTELLANOS, Percy Dangello, c/o LASA PERU S.A.C., Lima, Peru; c/o EMPRESA DE TRANSPORTES CHULUCANAS 2000 S.A., Lima, Peru; Jr. Augusto Gonzales Olaechea 1311, URB Elio, Lima, Peru; DOB 27 May 1971; LE Number 06778742 (Peru) (individual) [SDNTK].

2. ARRIOLA LUNA, Oscar Ignacio (a.k.a. ARREOLA LUNA, Oscar Ignacio), Mexico; c/o CORRALES SAN IGNACIO S.P.R. DE R.L. DE C.V., Saucillo, Chihuahua, Mexico; DOB 06 Apr 1994; POB Chihuahua, Chihuahua, Mexico; nationality Mexico; citizen Mexico; C.U.R.P. AILO940406HCHRNS06 (Mexico); alt. C.U.R.P. AELO940406HCHRNS04 (Mexico) (individual) [SDNTK].

3. CUESTA LEON, Carlos Pompeyo, c/o COLCHONES SUNMOONS LTDA, Bogota, Colombia; DOB 29 Nov 1965; POB Ubala, Cundinamarca, Colombia; nationality Colombia; citizen Colombia; Cedula No. 80375525 (Colombia) (individual) [SDNTK].

4. LONDONO RAMIREZ, Juan Pablo Antonio, c/o INTERNETSTATIONS E.U., Medellin, Colombia; c/o MONEDEUX EUROPA S.L., Madrid, Spain; c/o MONEDEUX FINANCIAL SERVICES COLOMBIA LTDA., Bogota, Colombia; c/o MONEDEUX LATIN AMERICA, S. DE R.L. DE C.V., Mexico City, Distrito Federal, Mexico; c/o MONEDEUX FINANCIAL SERVICES NORTH AMERICA, INC., Miami, FL; c/o MONEDEUX INTERNATIONAL SERVICES INC., Panama City, Panama; Carrera 78 No. 34-40, Medellin, Colombia; DOB 15 Feb 1965; POB Manizales, Colombia; Cedula No. 10267976 (Colombia); Passport CC10267976 (Colombia); alt. Passport AJ847440 (Colombia); alt. Passport AI314893 (Colombia); R.F.C. LORJ650215DH1 (Mexico); N.I.E. X-09552581-Z (Spain) (individual) [SDNTK].

5. SANCHEZ ACEVES, Raul, Flores Magon 8013, Zona Centro, Tijuana, Baja California, Mexico; c/o STRONG LINK DE MEXICO, S.A. DE C.V., Tijuana, Baja California, Mexico; DOB 21 Apr 1949; POB Distrito Federal, Mexico; nationality Mexico; citizen Mexico; R.F.C. SAAR-490421-MI9 (Mexico); C.U.R.P. SAAR490421HDFNCL09 (Mexico) (individual) [SDNTK].

Entities

1. COLCHONES SUNMOONS LTDA, Carrera 50 No. 37-45 Sur, Bogota, Colombia; NIT # 830073142-1 (Colombia) [SDNTK].

2. INTERNETSTATIONS E.U., Carrera 43A No. 15 Sur-15 Ofc. 802, Medellin, Colombia; NIT # 900071164-8 (Colombia) [SDNTK].

3. MONEDEUX EUROPA S.L., Calle Pinar, 5, Madrid 28006, Spain; C.I.F. B85375434 (Spain) [SDNTK].

4. MONEDEUX FINANCIAL SERVICES COLOMBIA LTDA., Calle 100 No. 8A-55 P 10, Bogota, Colombia; NIT # 900112718-5 (Colombia) [SDNTK].

5. MONEDEUX FINANCIAL SERVICES NORTH AMERICA, INC., Miami, FL; US FEIN 205487820; Business Registration Document # P05000069290 [SDNTK].

6. MONEDEUX INTERNATIONAL SERVICES INC., Panama City, Panama; RUC # 895887-1-513925 (Panama) [SDNTK].

7. MONEDEUX LATIN AMERICA, S. DE R.L. DE C.V. (f.k.a. IKIOSKOS DE MEXICO, S. DE R.L. DE C.V.), Avenida Santa Fe No. 495, Piso 4, Colonia Cruz Manca, Delegacion Cuajimalpa de Morelos, Mexico City, Distrito Federal C.P. 05349, Mexico; R.F.C. MLA010125E38 (Mexico); alt. R.F.C. IME010125C31 (Mexico) [SDNTK].

In addition, OFAC has amended the identifying information for the following individual and ten entities previously designated, or identified as blocked property, pursuant to the Kingpin Act:

1. CIFUENTES VILLA, Jorge Milton (a.k.a. LOPEZ SALAZAR, Elkin de Jesus), c/o BIO FORESTAL S.A., Medellin, Colombia; c/o C.I. DISTRIBUIDORA DE SERVICIOS COMBUSTIBLES Y MINERIA S.A., Bogota, Colombia; c/o C.I. METALURGIA EXTRACTIVA DE COLOMBIA S.A.S., Bogota, Colombia; c/o C.I. OKCOFFEE COLOMBIA S.A., Bogota, Colombia; c/o C.I. OKCOFFEE INTERNATIONAL S.A., Bogota, Colombia; c/o CUBICAFE S.A., Bogota, Colombia; c/o CUBI CAFE CLICK CUBE MEXICO, S.A. DE C.V., Mexico City, Distrito Federal, Mexico; c/o DESARROLLO MINERO RESPONSABLE C.I. S.A.S., Bogota, Colombia; c/o DOLPHIN DIVE SCHOOL S.A., Cartagena, Colombia; c/o GANADERIA LA SORGUITA S.A., Medellin, Colombia; c/o FUNDACION OKCOFFEE COLOMBIA, Bogota, Colombia; c/o FUNDACION PARA EL BIENESTAR Y EL PORVENIR, Medellin, Colombia; c/o FUNDACION SALVA LA SELVA, Bogota, Colombia; c/o GANADERIA LA SORGUITA S.A., Medellin, Colombia; c/o GESTORES DEL ECUADOR GESTORUM S.A., Quito, Ecuador; c/o HOTELES Y BIENES S.A., Bogota, Colombia; c/o INVERPUNTO DEL VALLE S.A., Cali, Colombia; c/o INVERSIONES CIFUENTES Y CIA. S. EN C., Medellin, Colombia; c/o LE CLAUDE, S.A. DE C.V., Mexico City, Distrito Federal, Mexico; c/o OPERADORA NUEVA GRANADA, S.A. DE C.V., Mexico City, Distrito Federal, Mexico; c/o LINEA AEREA PUEBLOS AMAZONICOS S.A.S., Bogota, Colombia; c/o PARQUES TEMATICOS S.A., Medellin, Colombia; c/o PROMO RAIZ S.A., Medellin, Colombia; c/o RED MUNDIAL INMOBILIARIA, S.A. DE C.V., Huixquilucan, Estado de Mexico, Mexico; c/o UNION DE CONSTRUCTORES CONUSA S.A., Bogota, Colombia; Avenida Carrera 9 No. 113-52 Of. 401, Bogota, Colombia; Calle 6 No. 33-29 Apto. 801, Medellin, Colombia; Calle 74 No. 10-33 Apto. 806, Bogota, Colombia; Calle Blas Pascal No. 106, Colonia Los Morales, Delegacion Miguel Hidalgo, Mexico City, Distrito Federal C.P. 11510, Mexico; Calle Eje J No. 999 Pasaje Santa Fe, Departamento No. 301, Colonia Ciudad Santa Fe, Delegacion Alvaro Obregon, Mexico City, Distrito Federal C.P. 01210, Mexico; Camino del Remanso, No. 80 A, Planta Baja, Colonia Lomas Country Club, Huixquilucan, Estado de Mexico C.P. 52779, Mexico; Camino del Remanso No. 80 Interior 2, Colonia Lomas Country Club, Huixquilucan, Estado de Mexico C.P. 52779, Mexico; Carrera 8 No. 10-56 Of. 201, Cali, Colombia; Carrera 68D No. 25-10, Lote 41 E/S Terminal, Bogota, Colombia; Carrera 68D No. 25B-86 Of. 504, Bogota, Colombia; Miguel Schultz No. 127, Colonia San Rafael, Delegacion Cuauhtemoc, Mexico City, Distrito Federal C.P. 06470, Mexico; DOB 13 May 1965; alt. DOB 13 Apr 1968; POB Medellin, Colombia; alt. POB Marinilla, Antioquia, Colombia; C.U.R.P. CIVJ650513HNEFLR06 (Mexico); Cedula No. 7548733 (Colombia); alt. Cedula No. 70163752 (Colombia); alt. Cedula No. 172489729-1 (Ecuador); Matricula Mercantil No 181301-1 Cali (Colombia); Matricula Mercantil No 405885 Bogota (Colombia); Passport AL720622 (Colombia); R.F.C. CIVJ650513LJA (Mexico) (individual) [SDNTK]

2. C.I. OKCOFFEE COLOMBIA S.A., Autopista Bogota-Medellin Km. 7, Parque Industrial Celta Lote 41 Bodega 8, Funza, Cundinamarca, Colombia; Avenida Carrera 9 No. 113-52 Ofc. 402, Bogota, Colombia; NIT # 830124959-1 (Colombia) [SDNTK]

3. C.I. OKCOFFEE INTERNATIONAL S.A., Autopista Bogota-Medellin Km. 7, Parque Industrial Celta Lote 41 Bodega 8, Funza, Cundinamarca, Colombia; Avenida Carrera 9 No. 113-52 Ofc. 401, Bogota, Colombia; NIT # 900060391-6 (Colombia) [SDNTK]

4. CUBICAFE S.A., (a.k.a. OK COFFEE), Avenida Carrera 9 No. 113-52 Ofc. 401, Bogota, Colombia; Calle 65 Bis No. 89A-73, Bogota, Colombia; Autopista Bogota- Medellin Km. 7, Parque Industrial Celta Lote 41 Bodega 8, Funza, Cundinamarca, Colombia; NIT # 830136426-1 (Colombia) [SDNTK]

5. DESARROLLO MINERO RESPONSABLE C.I. S.A.S. (a.k.a. DMR C.I. S.A.S.); Avenida Carrera 9 No. 113-52 Of. 401; NIT # 900386627-9 (Colombia) [SDNTK]

6. DISTRIBUIDORA DE SERVICIOS COMBUSTIBLES Y MINERIA S.A. (a.k.a. C.I. DISERCOM S.A.; a.k.a. DISERCOM S.A.; f.k.a. DISTRIBUIDORA DE SERVICIOS Y COMBUSTIBLES S.A.), Autopista Bogota-Medellin Km. 7, Parque Industrial Celta Lote 41 Bodega 8, Funza, Cundinamarca, Colombia; Avenida Carrera 9 No. 113-52 Ofc. 401, Bogota, Colombia; Carrera 13 No. 29-21, Manzana 1 Oficina 401, Bogota, Colombia; Carrera 13 No. 29-21, Manzana 1 Oficina 401, Bogota, Colombia; NIT # 830046009-5 (Colombia) [SDNTK]

7. FUNDACION OKCOFFEE COLOMBIA, Avenida Carrera 9 No. 113-52 Ofc. 401, Bogota, Colombia; NIT # 900311507-1 (Colombia) [SDNTK]

8. FUNDACION SALVA LA SELVA, Avenida Carrera 9 No. 113-52 Ofc. 401, Bogota, Colombia; NIT # 900390392-9 (Colombia) [SDNTK]

9. HOTELES Y BIENES S.A., (a.k.a. HOTEL NUEVA GRANADA), Avenida Jimenez No. 4-77, Bogota, Colombia; Avenida Calle 13 No. 4- 77, Bogota, Colombia; Avenida Carrera 9 No. 113-52 Ofc. 401, Bogota, Colombia; NIT # 830092519-5 (Colombia) [SDNTK]

10. LINEA AEREA PUEBLOS AMAZONICOS S.A.S., (a.k.a. LAPA S.A.S.), Mitu, Vaupes, Colombia; Villavicencio, Colombia; Avenida Carrera 9 No. 113-52 Ofc. 401, Bogota, Colombia; NIT # 900377739-7 (Colombia) [SDNTK]

11. UNION DE CONSTRUCTORES CONUSA S.A.S. (f.k.a. UNION DE CONSTRUCTORES CONUSA S.A.), Apartamentos Life, Medellin, Colombia; Avenida Carrera 9 No. 113-52 Ofc. 401; Boca Salinas, Santa Marta, Colombia; Calle 74 No. 10-33, Mirador del Moderno, Bogota, Colombia; Carrera 68D No. 258-86 Of. 504 Torre Central, Bogota, Colombia; Haciendas de Potrerito, Cali, Colombia; Isla Pavito, Cartagena, Colombia; Transversal 1B Este No. 7A-20 Sur, Buenos Aires Etapa II, Bogota, Colombia; NIT # 800226431-4 (Colombia) [SDNTK]

The listing for this individual and ten entities now appear as follows:

1. CIFUENTES VILLA, Jorge Milton (a.k.a. LOPEZ SALAZAR, Elkin de Jesus; a.k.a. OSUNA VILLARREAL, Sergio), Calle 6 No. 33-29 Apto. 801, Medellin, Colombia; Calle 74 No. 10-33 Apto. 806, Bogota, Colombia; Calle Blas Pascal No. 106, Colonia Los Morales, Delegacion Miguel Hidalgo, Mexico City, Distrito Federal C.P. 11510, Mexico; Calle Eje J No. 999 Pasaje Santa Fe, Departamento No. 301, Colonia Ciudad Santa Fe, Delegacion Alvaro Obregon, Mexico City, Distrito Federal C.P. 01210, Mexico; Camino del Remanso, No. 80 A, Planta Baja, Colonia Lomas Country Club, Huixquilucan, Estado de Mexico C.P. 52779, Mexico; Camino del Remanso No. 80 Interior 2, Colonia Lomas Country Club, Huixquilucan, Estado de Mexico C.P. 52779, Mexico; Carrera 8 No. 10-56 Of. 201, Cali, Colombia; Carrera 68D No. 25-10, Lote 41 E/S Terminal, Bogota, Colombia; Carrera 68D No. 25B-86 Of. 504, Bogota, Colombia; Miguel Schultz No. 127, Colonia San Rafael, Delegacion Cuauhtemoc, Mexico City, Distrito Federal C.P. 06470, Mexico; Paseo de las Gacelas No. 550, Fraccionamiento Ciudad Bugambilias, Guadalajara, Jalisco, Mexico; DOB 13 May 1965; alt. DOB 13 Apr 1968; alt. DOB 07 Jul 1964; POB Medellin, Colombia; alt. POB Marinilla, Antioquia, Colombia; alt. POB Ciudad Victoria, Tamaulipas, Mexico; Cedula No. 7548733 (Colombia); alt. Cedula No. 70163752 (Colombia); alt. Cedula No. 172489729-1 (Ecuador); Passport AL720622 (Colombia); R.F.C. CIVJ650513LJA (Mexico); alt. R.F.C. OUSV-640707 (Mexico); C.U.R.P. CIVJ650513HNEFLR06 (Mexico); alt. C.U.R.P. OUVS640707HTSSLR07 (Mexico); Matricula Mercantil No 181301-1 Cali (Colombia); alt. Matricula Mercantil No 405885 Bogota (Colombia) (individual) [SDNTK] (Linked To: BIO FORESTAL S.A.S.; Linked To: CUBI CAFE CLICK CUBE MEXICO, S.A. DE C.V.; Linked To: DOLPHIN DIVE SCHOOL S.A.; Linked To: GANADERIA LA SORGUITA S.A.S.; Linked To: GESTORES DEL ECUADOR GESTORUM S.A.; Linked To: INVERPUNTO DEL VALLE S.A.; Linked To: INVERSIONES CIFUENTES Y CIA. S. EN C.; Linked To: LE CLAUDE, S.A. DE C.V.; Linked To: OPERADORA NUEVA GRANADA, S.A. DE C.V.; Linked To: PARQUES TEMATICOS S.A.S.; Linked To: PROMO RAIZ S.A.S.; Linked To: RED MUNDIAL INMOBILIARIA, S.A. DE C.V.; Linked To: FUNDACION PARA EL BIENESTAR Y EL PORVENIR; Linked To: C.I. METALURGIA EXTRACTIVA DE COLOMBIA S.A.S.; Linked To: GRUPO MUNDO MARINO, S.A.; Linked To: C.I. DISERCOM S.A.S.; Linked To: C.I. OKCOFFEE COLOMBIA S.A.S.; Linked To: C.I. OKCOFFEE INTERNATIONAL S.A.S.; Linked To: FUNDACION OKCOFFEE COLOMBIA; Linked To: CUBICAFE S.A.S.; Linked To: HOTELES Y BIENES S.A.; Linked To: FUNDACION SALVA LA SELVA; Linked To: LINEA AEREA PUEBLOS AMAZONICOS S.A.S.; Linked To: DESARROLLO MINERO RESPONSABLE C.I. S.A.S.; Linked To: R D I S.A.).

2. C.I. OKCOFFEE COLOMBIA S.A.S. (f.k.a. C.I. OKCOFFEE COLOMBIA S.A.), Autopista Bogota-Medellin Km. 7, Parque Industrial Celta Lote 41 Bodega 8, Funza, Cundinamarca, Colombia; NIT # 830124959-1 (Colombia) [SDNTK].

3. C.I. OKCOFFEE INTERNATIONAL S.A.S. (f.k.a. C.I. OKCOFFEE INTERNATIONAL S.A.), Autopista Bogota-Medellin Km. 7, Parque Industrial Celta Lote 41 Bodega 8, Funza, Cundinamarca, Colombia; NIT # 900060391-6 (Colombia) [SDNTK].

4. CUBICAFE S.A.S. (f.k.a. CUBICAFE S.A.; a.k.a. OK COFFEE), Autopista Bogota-Medellin Km. 7, Parque Industrial Celta Lote 41 Bodega 8, Funza, Cundinamarca, Colombia; Calle 65 Bis No. 89A-73, Bogota, Colombia; NIT # 830136426-1 (Colombia) [SDNTK].

5. DESARROLLO MINERO RESPONSABLE C.I. S.A.S. (a.k.a. DMR C.I. S.A.S.); NIT # 900386627-9 (Colombia) [SDNTK].

6. C.I. DISERCOM S.A.S. (f.k.a. C.I. DISERCOM S.A.; f.k.a. C.I. DISTRIBUIDORA DE SERVICIOS COMBUSTIBLES Y MINERIA S.A.; f.k.a. DISERCOM S.A.; f.k.a. DISTRIBUIDORA DE SERVICIOS Y COMBUSTIBLES S.A.), Autopista Bogota-Medellin Km. 7, Parque Industrial Celta Lote 41 Bodega 8, Funza, Cundinamarca, Colombia; Carrera 13 No. 29-21, Manzana 1 Oficina 401, Bogota, Colombia; NIT # 830046009-5 (Colombia) [SDNTK].

7. FUNDACION OKCOFFEE COLOMBIA; NIT # 900311507-1 (Colombia) [SDNTK].

8. FUNDACION SALVA LA SELVA; NIT # 900390392-9 (Colombia) [SDNTK].

9. HOTELES Y BIENES S.A. (a.k.a. HOTEL NUEVA GRANADA), Avenida Calle 13 No. 4-77, Bogota, Colombia; Avenida Jimenez No. 4-77, Bogota, Colombia; NIT # 830092519-5 (Colombia) [SDNTK].

10. LINEA AEREA PUEBLOS AMAZONICOS S.A.S. (a.k.a. LAPA S.A.S.), Mitu, Vaupes, Colombia; Villavicencio, Colombia; NIT # 900377739-7 (Colombia) [SDNTK].

11. UNION DE CONSTRUCTORES CONUSA S.A.S. (f.k.a. UNION DE CONSTRUCTORES CONUSA S.A.), Apartamentos Life, Medellin, Colombia; Boca Salinas, Santa Marta, Colombia; Calle 74 No. 10-33, Mirador del Moderno, Bogota, Colombia; Carrera 68D No. 258-86 Of. 504 Torre Central, Bogota, Colombia; Haciendas de Potrerito, Cali, Colombia; Isla Pavito, Cartagena, Colombia; Transversal 1B Este No. 7A-20 Sur, Buenos Aires Etapa II, Bogota, Colombia; NIT # 800226431-4 (Colombia) [SDNTK].

Dated: July 30, 2013.
Adam J. Szubin,
Director, Office of Foreign Assets Control.

[FR Doc. 2013-18796 Filed 8-2-13; 8:45 am]

BILLING CODE 4810-AL-P